DEPARTMENT OF HEALTH AND HUMAN SERVICES

Food and Drug Administration

[Docket No. FDA-2013-D-0254]

Salmonella Contamination of Dry Dog Food; Withdrawal of Compliance Policy Guide

AGENCY: Food and Drug Administration, HHS.

ACTION: Notice; Withdrawal.

SUMMARY: The Food and Drug Administration (FDA) is announcing the withdrawal of the compliance policy guide (CPG) entitled “Sec. 690.700 Salmonella Contamination of Dry Dog Food.” This CPG is obsolete.

DATES: The withdrawal is effective July 16, 2013.

FOR FURTHER INFORMATION CONTACT: Diane D. Jeang, Office of Regulatory Affairs, Food and Drug Administration, 12420 Parklawn Dr., Rockville, MD 20857, 301-796-3890.

SUPPLEMENTARY INFORMATION: FDA issued the CGP entitled “Sec. 690.700 Salmonella Contamination of Dry Dog Food (CPG 690.700)” on October 1, 1980. CPG 690.700 was issued as a result of a human case of salmonellosis traced to dry dog food; a subsequent FDA-conducted survey of dry dog food; a risk analysis; and the development of an appropriate sampling technique to test dry dog food for salmonella organisms.

Elsewhere in this issue of the Federal Register, FDA is announcing the availability of a new CPG to address all food for animals that may contain salmonella organisms, including dry dog food. This new CPG, entitled “Compliance Policy Guide Sec. 690.800 Salmonella in Food for Animals,” supersedes CPG 690.700 and makes CPG 690.700 obsolete. The notice of availability for CPG “Sec. 690.800 Salmonella in Food for Animals” is published elsewhere in this issue of the Federal Register.

FDA is withdrawing CPG 690.700, in its entirety, to eliminate obsolete compliance policy.

Dated: July 10, 2013.
Leslie Kux,
Assistant Commissioner for Policy.

[FR Doc. 2013-16973 Filed 7-15-13; 8:45 am]

BILLING CODE 4160-01-P